ENVIRONMENTAL PROTECTION AGENCY

40 CFR Part 300

[EPA-HQ-SFUND-2009-0175; FRL-8951-5]

National Oil and Hazardous Substance Pollution Contingency Plan National Priorities List

AGENCY: Environmental Protection Agency.

ACTION: Notice of Deletion of the Montclair/West Orange and Glen Ridge Radium Superfund Sites from the National Priorities List.

SUMMARY: The Environmental Protection Agency (EPA)—Region 2 announces the deletion of the Montclair/West Orange and Glen Ridge Radium Superfund Sites located in Montclair, West Orange, Glen Ridge, Bloomfield and East Orange, New Jersey from the National Priorities List (NPL). The NPL, promulgated pursuant to Section 105 of the Comprehensive Environmental Response, Compensation and Liability Act (CERCLA) of 1980, as amended, is an appendix of the National Oil and Hazardous Substances Pollution Contingency Plan (NCP). EPA and the State of New Jersey, through the Department of Environmental Protection, have determined that all appropriate response actions under CERCLA have been completed. However, this deletion does not preclude future actions under Superfund.

DATES: Effective Date: This action is effective October 2, 2009.

ADDRESSES: EPA has established a docket for this action under Docket ID No. EPA-HQ-SFUND-2009-0175 All documents in the docket are listed in the http://www.regulations.gov index. Although listed in the index, some information is not publicly available, e.g., Confidential Business Information or other information whose disclosure is restricted by statute. Certain other material, such as copyrighted material, will be publicly available only in the hard copy. Publicly available docket materials are available either electronically in http://www.regulations.gov or in hard copy at the site information repositories. Locations, contacts, phone numbers and viewing hours are:

U.S. Environmental Protection Agency—Region 2, Superfund Records Center, 290 Broadway, 18th Floor, New York, NY 10007-1866, Phone: 212-637-4308, Hours: Monday to Friday 9 a.m. to 5 p.m.

Montclair Public Library Reference Department, 50 South Fullerton Avenue, Montclair, New Jersey 07042, Phone 973-744-0500, Hours: Monday to Thursday 10 a.m. to 9 p.m.; Friday & Saturday 10 a.m. to 5 p.m.; and Sunday 1 p.m. to 5 p.m.

The Township of West Orange Health Department, 66 Main Street, Room 203, West Orange, New Jersey 07052, Phone 973-325-4120, Hours: Monday to Friday 8:30 a.m. to 4:30 p.m.

Glen Ridge Public Library Reference Department, 240 Ridgewood Avenue, Glen Ridge, New Jersey 07028, Phone 973-748-5482, Hours: Monday 9 a.m. to 8 p.m.; Tuesday 9 a.m. to 5 p.m.; Wednesday 9 a.m. to 8 p.m.; and Thursday, Friday, Saturday 9 a.m. to 5 p.m.

FOR FURTHER INFORMATION CONTACT: Ms. Betsy Donovan, Remedial Project Manager, by mail: Emergency and Remedial Response Division, U.S. Environmental Protection Agency—Region 2, 290 Broadway, 19th Floor, New York, NY 10007-1866; (or) telephone (212) 637-4369; (or) fax (212) 637-4439; (or) e-mail donovan.betsy@epa.gov.

SUPPLEMENTARY INFORMATION: The sites to be deleted from the NPL are the Montclair/West Orange and Glen Ridge Radium Superfund Sites located in Montclair, West Orange, Glen Ridge, Bloomfield and East Orange, New Jersey. A Notice of Intent to Delete these sites was published in the Federal Register on April 29, 2009. The closing date for comments on the Notice of Intent to Delete was May 29, 2009. No public comments were received and therefore EPA has no information which leads it to believe that the deletion action is inappropriate.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: August 4, 2009.
George Pavlou,
Acting Regional Administrator, Region 2.

For reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B—[Amended]

2. Table 1 of Appendix B to part 300 is amended by removing the sites under New Jersey for “Glen Ridge Radium Site, Glen Ridge”, and “Montclair/West Orange Radium Site, Montclair/W Orange.”

[FR Doc. E9-21193 Filed 9-1-09; 8:45 am]

BILLING CODE 6560-50-P